DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G of the Health Insurance Portability and Accountability Act (HIPPA) of 1996, as amended. This listing contains the name of each individual losing United States citizenship (within the meaning of section 877(a) or 877A) with respect to whom the Secretary received information during the quarter ending March 31, 2016. For purposes of this listing, long-term residents, as defined in section 877(e)(2), are treated as if they were citizens of the United States who lost citizenship.

Last name | First name | Middle name/initials
ABE | KOUICHI
ABE | SUMIKO
ACKER | THOMAS | HAROLD
ACOSTA | FERNANDO
ACOSTA | MARIA | ENCARNACION
AEBI | CAROL | A.
AHMED | MARZIYEH | NAAZ
AINTABLIAN | JOHNNY
AITON | GLEN | NEIL
AL-HAIFI | MOHAMMED | IBRAHIM
ALTSCHAEFFL | TAMI | MUNOZ HAYAKAWA
ALTWAJRI | ALJOHARA | KHALED
AL-YAHYA | HIND | M.
AMBUS | INGRID | ANN
AMTHOR-RUESSMANN | SARITA
AMYOTTE | KATHERINE | ELLEN
AN | CHANG | YE
ANDERL | ANGELIKA | MARIA
ANDERSON | JOSEPH | DALE
ANDREWS | MIRIAM | DAWN MORRISON
ANG | WILLIAM | ZONG-SHI
ANGOTTI | MARC | GERARD
AOKI | HIDEO | PAUL
APOSTLE | VICTOR
APOSTOLOV | MARIO | A.
ARIGA | CHIEKO
ARMBRUESTER | ALICIA | MARIA
ARNDT | SHANNON | MAUREEN
ARNS-HERMLE | ILONA
ASHER | ROBERT | VERNON
ATKINS | BRIAN
ATKINS | CAROL | ANNE
AULD | DANIEL | JOSEPH
BACHANT-SELLARS | KAREN | A.
BACON | NORIKO | NAKAMURA
BAGI-GLOBKE | CHARMAINE | HOPE
BAI | KELLY
BALAGAT | TED
BALDWIN | ELLEN | CHARLOTTE
BALDWIN III | LEVI | J.
BAMFORD | STEPHEN | FILDES
BANKES | TALERI | CHRISTIAN MARY
BARBLAN | JUERG | ANDREAS
BARRERE | BARBARA | PRISCILLA COLETTE
BARRETT | JUDITH | ANN
BARRON | JOHN | PATRICK
BARTHE | LOUISE | JANE
BARTHE | SUSAN
BASKWILL | JANE
BAUER | JAN
BAUMGARTNER | PHILIP | MARK
BAUMGARTNER | SIBYLLE | CLAIRE
BAXTER | ISABELLE
BEARD | CHRISTINA | KAYO
BEATTY | CLAIRE | ELIZABETH
BEGNOCHE | GERALD
BELLEVILLE | RITA
BENSON | NOEL | MANLY
BERCOT | LAURENT | GREGORY
BERGER | HARALD | ARTHUR
BERGONZI | GIACOMO | ANGELO
BERGSTROM | KRISTEN | WILLIAM
BERNASCONI | RAYMONDO | MASSIMO
BERNHEIM | BEATRICE | HEIDI
BERNOUS | PASCAL | MARC
BERSIER | LORRAINE | ELESTRE
BERSIER | NICOLAS
BERTOLI | JEANNE | MARIE
BERTSCHINGER | MAYA | ELIZABETH
BESSLER | MARIE | ALESSANDRA
BINDER | BRIGITTE
BIRNBERG | ERIC | STEPHEN
BISCONTI | GIANCARLO
BISCONTI | STEFANIA
BLACKBURN | SALLIE | PATRICIA
BLAKE | SUSAN | ELIZABETH
BLAKEWAY | MARTIN | IVAN
BLANCO | MANUEL | C.
BLUM | DIANE | MARIE
BLUM | KIM | BARBARA
BODART | SERGE | YVES
BODDEN | JENNIFER | MARGARET
BODMER | ANNI | MITLOEHNER
BODMER | RONALD | ERNEST
BOGUE | MICHELLE | MARIE BISSON
BOLDRINI | MARY | GINETTA CARMELA
BOLLIGER | JACQUELINE | JENNIFER
BOLSTAD | KATHRYN | DELL
BONI | OLIVER | JEFFREY
BONILLA | JOSE | VITAL
BONSTEIN | NICHOLAS | JEROME
BOOMSMA | KEVIN | SCOTT
BORNEMANN | JAMES
BORNEMANN | SANDRA | TZIPORAH
BOROVOY | NICHOLAS | SAMUEL
BOSISIO | BRUNO | JOSEPH MARIO
BOSISIO | PIERRE
BOUCHER | GILLES
BOURRET | PIERRE | RONALD
BOYLE | JAMES | JOSEPH
BRADY | ERIN | LOUISE
BRAND | MONIQUE | YVONNE
BRANDT | ALLEN | ROBERTS
BRASSARD | ANNE
BRASSARD | PIERRE | JOSEPH
BRAUN |  | H.
BREWER | MARY | FRANCES
BRIGUET | PATRICIA
BRISCOE | KARIN | MARGRETHE
BROOKS | TIMOTHY | MICHAEL
BRUCHEZ-AMBROSE | SARI | NICOLE
BRUGGER | ISABELLE | SUSANNE
BRUINSMA | IRENE | KAY ADAMS
BRYSON, JR | DONALD | ALAN
BUEHLER | MIRIAM | CATHERINE
BUEHLMANN | CAROLINE | NICOLE
BUNT | LOUIS | BRIAN
BURROWS | MARY | PATRICIA
BURROWS | MARY | PATRICIA
BUTTERFIELD | SARAH | HARRIET ANNE
CABALLERO-HERNANDEZ | MARIA | CHRISTINA CECILIA
CAINE | ROBERT | SAMUEL
CAMPBELL | JAMES | MICHAEL
CAPPELLETTI | DANIELA | CHANTAL
CARDONA | STEVEN | MARK
CARNAL | OLIVIER | HENRI
CARRELL | KEVIN | JOHN
CARSLEY | STEFANIE
CASTALDI | MAURIZIO
CATOR | JOHN
CECCHINI | RICARDO | ANTONIO
CETTO | ALEJANDRA | MARIA
CHA | PI | REN
CHAMBERS | BRIAN | ALLAN
CHAMORRO | BARNEY | ROSENDO
CHAN | ADRIEL | WENBWO
CHAN | CHRISTINE | MEI-AN
CHAN | LILLIAN | LAI YIN
CHAN | VICKI | WAI KEI
CHAN | YIK FAI | KEVIN
CHANDLER | RICHARD | JEFFREY
CHANG | ELEIN | HAESUN
CHAO | APRIL | WAI-PING
CHAO | PATRICK | SHIH PAN
CHARRINGTON | MICHELE | MARGUERITE
CHEN | CHENGQUAN
CHEN | JANE | LEE
CHEN | JEAN | H.
CHEN | RAY | TSANJEE
CHEN | RWEI-SYUN
CHEN | TIFFANY
CHENG | CLEMENT | TUNG JEUN
CHEONG | STEPHEN | H.
CHEUNG | GRACE | SAMUEL
CHEUNG | PEGGY | BIK HING
CHEVALIER | VERONICA | TAO
CHIA | ZACKARY
CHIANG | YU-CHENG
CHIEMCHANYA | PONLERD
CHIEN | CHIEN-DA
CHIONG, JR | DANIEL | KOU
CHIU | JACQUELINE | SUK-YEE
CHOI | ROBIN | USEOK
CHOQUETTE | DIANA | KAY
CHOU | STANLEY | YU-CHUNG
CHOU | WILLY | YU LI
CHRIQUI | VINCENT | MAURICE
CHRISTOFFEL | ULRICH | CHRISTIAN
CHUI | CALVIN | TINLOP
CHUN | KYUNG | SIK
CHUNG | MICHAEL | CHUN WAI
CHUNG | SERIN | SYLVIA
CHWALINSKI | OLIVER | ROMAN
CIARFELLA | MARK | FREDERIK
CINEGE | DAVID
CIUCCI-ZWICKY | KAREN | LOUISE
CLIVE | JAGO | GEORGE ANTHONY
CLOUTIER | GUY | ERNEST
COCKBURN | MICHAEL | ALAN
COENEN | CLAUDIA | CLOTILDE INGRID
COHEN | DANIEL
COLIVAS | THEODORE
CONDER | ALEXANDRA | FRANCES CLARE
CONKLIN | TOR | ODAR
CONNOLLY | KATHLEEN | ANN
CONNOLLY | MICHELE | LAURENNE
COPPARELLI | GINA | MARIA
COTTON | ROGER | ALAN
COTTON-RUSSELL | JOHN | PHILIP DESMOND E.
COURNOYER | ANDRE | REAL
CRAIG | GERALD | WAYNE
CRAWFORD | ERIC | JAMES
CRON | ALEXANDRA | CHASLOTTE ANNA
CRONIN | ABBY | LOUISE
CROZIER | STEVEN | RICHARD
CULSHAW | JAMES | NEWTON THURSTON
CUMBERWORTH | JULIE | ANN
CUMMING | ROBERT | GORDON
CUNNINGHAM | TRACEE | ANN
CURTI | ILARIA
DADABHOY | SIRAJ | AHMED MOHAMED
DAEHLER | SYLVIA | E.
DALBEY | RUSSELL | THOMAS
DALE | HALI | CARLYLE
DANE | PHILIP | CLAUDE THEOBOLD OLIVER
DAVIDOW | EMILY | ANN
DAVIDSON | JUDITH | RAE
DAVIES | DAVID | JOHN
DAVIS | KATHLEEN | ANNE
DAVIS | PAMELA | ANN
DE BAUSSET | ANDRE | MICHEL
DE BLANC | BRYAN | JOSEPH
DE CHOUDENS | CONSUELO
DE OLIVEIRA | JASON | WANDERLINO
DE SOUSA | ALEXANDRE | RUI IGLESIAS
DE WITTE | KATHLEEN
DEGAWA | MICHIKO
DEGAWA | SHIGEMI
DEGEN | NICHOLAS | MARK
DEGNAN-VENESS | COLEEN | MARIE
DELAGE | RACHELLE | MARIE
DELEAMONT | PHILIPPE | ALAIN
DELFINO | CARLOS | TEOTICO
DELGADO | SERGIO | IVAN
DELORI | CAROLINE
DEMEULENAERE | REMI | STEPHANE
DEMING-LUTHY | CANDACE
DENICOURT | MAXIME
DENT | LAURA | ELIZABETH
DEROCHER | MARK | STEWART
DEWJI | AZIZUDIN | SADRUDIN
DI BIASE | JOHN | FELICE
DI BORGO | CHARLES | POZZO
DI LULLO | SYLVIE | JENNIFER MICHELE
DIANOVA | IRINA | IOSIPHOVNA
DIDISHEIM | RAYMOND | OLIVIER
DILBERT | CELINA | ELIZABETH
DILLER | JOHN | E.
DINSDALE | BRIAN | SIDNEY
DION | LOUISE | GEORGETTE
DIVER | RUTH | LOUISE
DOGNIN | JEROME | MARIE
DONIS | JAMES | PETER
DORAN | JOHN | GERARD
DOSTOINOVA | MARIA | I.
DOWNS | ALLYSON | ELIZATETH
DOYTCHINOVA-APOSTOLOV | ROSSITZA | P.
DRAGHICI | ELIDA | MARIA
DREYFUS | RAYMOND | VICTOR
DROUIN | JERRY | LIONEL
DUBLANKO | ANGELA | MAE
DUBLER | KONRAD | GREGORY
DUBOIS | VIVIANE
DUBOSSON | LESLIE | MARIE MARGUERITE
DUBUC | SERGE
DUCLERT | CHARLES | BRAXTON
DUCLOS | ANNE | LOUISE
DUCOR | FLAVIEN | ANDRE CHRISTIAN
DUDLER | PATRIZIA
DUDLEY | SCOTT | JAU
DUHAIME | YVON
DUMAS | ANDREE
DUNN | EVELYN | LOUISE
DUPONT | REBECCA | ANNE
DUPONT-BONVIN | CARMEN | VALERIE
DUPUCH | PETER | MICHAEL EUGENE
DURAN | DARIO | ANTONIO
DURRENMATT | MARIE | BETTINA
EASLER-GRIEDER | BARBARA | JEAN
EAST | ELIZABETH | ANN
EASTWOOD | MARY | SUSAN
EBANKS | ANTHONY | ROGER
EBLE | PETER
ECHEVARRIA | PEDRO | EDUARDO PUEYO
ECHEVERRI-KLEIN | SARAH | ISABELLE
EDWARDS VI | BENJAMIN | FRANKLIN
EERKENS | JORIS | WILLEM
ELDON | MARIA | MARGARITA
ELHADDAD | YOUSEF | OSAMA
ELLIS | STEPHEN | OLIVER
ELVERDIN | JOSEFINA
EMMENEGGER | TIM | MAX
EMOND | SONYA | NYLE
ENGLISH | CINDY | LOU
ETGES | JOSEPH | ROBERT
FALCO-LARKIN | IVA | SONJA
FARKAS | IVO | TIVADAR
FAST | RUTH | MIRIAM
FAVOT | ANN | MARIE
FEATHERSTON | MICHAEL | ROBERT
FEAVER | SARAH | ELIZABETH
FEGER | LILIAN | DOROTHEE
FERBRACHE | BRENDAN | PAUL
FICK | STEVEN | FRANCIS
FIELER | JEFFREY | RICHARD
FISCHER | ALFRED | MARCEL
FISHER | CAROL | J.
FISHER | STEPHEN | N.
FLORANCE | WILLIAM | HOWLAND
FLURY | MILAN | JOSEF
FLYNN | MEGAN | EILEEN ANNE
FORAND-MCHUGH | DORIS | M.
FORD | CLAY | ANDREAS PHILIPP
FORD | IDEN | PIERCE
FORMICA | CARMELO | ANTHONY
FOURIE | LYNNE | ANNE
FRAMPTON | ALAIN | NOEL MICHEL
FRANCO | CHRISTINA | OLYMPIA
FRANCOIS | STEPHANIE
FRANK | GREGORY | E.
FRANKEL | ELLA
FRECHETTE | DANIEL | PAUL
FREMAUX | REMY | NICOLAS
FRENCK | EMMANUEL
FRESE | LIKAS | DAVID
FRIDRIKSSON-FICK | SIGNY | ANN
FUJII | SHOU | EBERHARD
FUKADA | SIMON | DAISUKE
FUKUDA | MANABU
FUKUDA | SETSUKO
FUNK | KURT | ALBERT
GAGNE | NANCY | KATHLEEN
GALLI-WADE | DEBRA | ELLEN
GAMBONI | EMMA | GRACE
GAMROTH | BUNNY | DAWN
GASSMANN | NORINA | NAOMI
GASSMANN | PHILIPP | MATTHIAS
GASSNER | RENE
GEARY-TRUAN | BARBARA | ANNE
GEE | ISABELLA | WEN-SUE
GEE | JIM | HSING
GEISSBUHLER | DAMIEN | MAXIME
GERBIER | DANIELLE | F.
GFELLER-HESS | MARTINA | ELISABETH
GFELLER-HESS | MARTINA | ELISABETH
GHAZAL | JACQUELINE | A.
GIBSON | DANIEL | PATRICK
GIESE | CATHATINA | SARAH
GIGER | ANDREW | DANIEL
GILES | JENNIFER | G.
GILL | JULIE
GILLETTE | ROBERT | ALLEN
GILLIES | JOAN | MARY
GISLER | HEINZ | ALEXANDER
GIUDICE | HENRY | MANFRED
GLASSBERG | DANIEL | MATTHEW
GLOMSKI | JACQUELINE | LEE
GO | THIAM | HIEN
GOEHLICH | CORINNA | REBECCA
GOH | WEE ANN | ANTHONY
GOLD | DIANA | MANSON
GOLD | KARL | R.
GOLDBLATT | LAUREN | KIM
GOLDENBERG | JEFFREY | MOSES LOUIS
GONSER | LENZ | DANIEL
GOODWIN | MEGAN | MARIE
GORALEWSKI | EMILY | TEO
GOUVERNEUR-PATT | MICHAEL | ANTHONY
GOWRYLUK-BOOY | BETHANY | JOY
GRAF | EVELYN | LEDOUX
GRAND | DEREK | JULIAN
GRANDY | JOHN | DAVID
GRANT | MARILEE | ANN
GRAY | JUNE
GREEN | RICHARD
GREENHALGH | JONATHAN
GREENHALGH | KATARINA
GREENMAN-FOX | STACEY | BLAIR
GRIFFITH | ROBERT | JAMES
GRIGG | JOACHIM | JACK
GRILLET | LIONEL | HENRY
GRIZE | SOFIA | ADRIANA
GROSS-OSTERWALDER | SHARON | LOUISE
GRUNAUER | DOMINIC | RUDOLF
GRUTTER | VANESSA
GSPONER | REGINA
GUENTHER | HANNELORE | ELKE
GUERRERO | LUCIA
GUSTAFSON | NICHOLAS | ADAMS
GUT | MICHAEL | CHRISTIAN
HABICH | HANS
HADIKUSUMO | STEPHANIE | WAN-HUEI
HAHN | LAWRENCE | OTTO ERIC
HAINDL | JEFFREY
HAJI | SHASHEEN
HALEY | GEORGE | FORDHAM
HALL | NICHOLE | PIA
HALLER | CHRISTINE
HALLIER | ROBERT | COLLINGS
HAMMOND | PETER | OLIVER
HAMMONDS | SHANNON
HANDLEY-RAVEN | LINDA | LEA
HANSON | JOHN | CHARLES
HARGET | MICHAEL | JACK
HARPIN | ROBERT | ROGER
HARRINGTON | KEVIN | KERRY
HARRIS | ROBIN | ELLEN
HASLER | CANDICE | KAREN
HASLER | MARTIN | ALLEN
HATAMI | AFSOUN
HATAMI | LINA
HAU | JEFFREY | CHUN HEI
HAUG | CAROLINE | DOROTHEA
HAUSEL | HANS | RUDOLF
HAUSER | LESLIE | KIM
HAYASHI | YUKO
HEINECKE | JOHN | SCOTT
HENSON-SCHNEE | LAURA | CHANTAL
HEPBURN | BARBARA | ROSEMARY
HEPBURN | HOWARD | GRAHAM
HERMAN | SALLY | PATRICIA.
HERTZBERGER | ANTHONY | HENRI LOUIS
HIGGINS | ANDREW | JOHN NEVILLE
HILLOCK | KIMBERLY | DAWN
HIMMELSBACH | STEVEN | EUGENE PAUL
HING | JANELLE | MIN
HINTERMANN | ELLA | JEAN
HINTON | DEBRA | LYNN
HIRABAYASHI | MICHIKO
HIRZEL | ANNELIS | SUZANNE
HIS | CHARLES | CHUNG YUNG
HNATEK | OSCAR
HO | BELLA | YUN KUN
HO | GAYLORD | CHIWEI
HODGE-TURNBULL | ANELTA | CECLIA
HOELTSCHI | KEVIN
HOFSTETTER | SUSAN
HOHL | ROBERT | ERNST
HOL | WILLEM | ALAN
HOLDEN | HEATHER | MARY
HOLDEREGGER | EVELYN
HOLLINGER | CAROLYN | ANNE
HOLT | DIANE | FRANCES
HONG | KI | CHANG
HORISBERGER | GUY | KIMO
HOUSE | MARJORIE | REITH
HOYLE | ROBERT | HERMAN
HSU | CHRISTINE
HUANG | CHARLES | YUCHUNG
HUANG | GLORIA | DIEH YING
HUBBARD | ELLEN | SIM KARNOFSKY
HUBBARD | PHILIPPE | M.
HUBER | MERLIN | ARTHUR
HUBER | NIKLAUS | PETER
HUBER | SARAH | CARINA
HUEVE | ALEXANDRA | MIRJAM
HUEVE | FRIEDERIKE | SIMONE
HUNERWADEL | PEPE | HENRY
HUPPI | ROLAND | SEVERIN
HUYNH | PENH | NEANG
HWANG | GRACE | SHAO YING
HYTOWER | MAL | SUK
IM | JIN | HYOUK
IMHOFF | GERALD | S.
IMHOFF | WENDY | J.
IMMOOS | URS | ALOIS
INGLIS-POWE | JANE | HELEN
IP | KIMBERLEY | TON
IRIARTE | AMADO
IRIARTE | MARIA | CARMEN
IRVINE | SUSAN | LYNN
ISBELL | DANN | RICHARD
ISDELL-CARPENTER | ANTOINETTE
ISELI | TAMARA | TIFFANY
IVES | PAMELA
JAEGGI-EGGER | BARBARA | YVONNE
JANES | CLAIRE | ELIZABETH
JANG | EMILY
JANGKRAJARNG | NUTTORN
JANZEN | STEVEN | PAUL
JARVEY | KATE | LILLY
JAUSEL | KEIKO | CHRISTINE
JELTSCH | URS
JEN | SEAN | SHIFONG
JENDLY | ANJA
JENKINS-AUBERT | ANNE-CECILE | ALLIETTE
JENSEN | JORGEN | CRISTIAN REESE
JENSEN | RICHARD | ALVIN
JOHANNESON | SUE | TSEN
JOHANNESSEN | JANET | BAKKEN
JOHN | LAURA | LYNNE MATTSON
JOLLIET | PHILIPPE | SERGE
JONES | ANDREAS
JONES | CAROL | D WEISS
JONGBLOED | SEBASTIAAN | WILLEM MICHIEL
JONGBLOED | VIOLETTE | ANNE
JOOS | CARRIE | FRANCES
JOOS | CHRISTIAN | EDOURAD
JOPLING | JENNIFER | MARIE
JORDAN | JACLYN | DANAE
JORGENSEN | RICHARD | ALAN
JOSEPH | CAROLYN | ANNE
JOYAL | EDWARD | LAWRENCE
KADI | MUAZ | YASSIN
KAELBERER | PEGGY
KAHAN | MARCIA
KAISER | BARBARA | ELIANE
KAMAL | RAMMIE | MUSA
KANAFANI | MONA | HALABI
KAO | HONG | JOHN
KAO | MEI-CHIN | CHEN
KASPER | RICO
KASSER | JUERG | WALTHER
KAUFMAN | AISLINN | ERICA
KEEFER-BELL | ILA | EUGENIE
KEEL | SAMATHA | NICOLE
KELLER | ANDREW | MARIO
KENDALL | THOMAS | JOHN
KERSNAR | JANET | LYNNE
KHO | CHRISTINE | ZHEN-BING
KICKERT | JAN
KIENER | CATHERINE | CECILE
KIESS | FRANZISKA | SANDRA
KIM | ALEX
KIM | ALEXANDER | DONG
KIM | HELEN | HAISEUNG
KIM | JAE | MIN
KIM | YOO | KYUNG
KIMMEL | ERIC | STEPHEN
KINAHAN | LAURA | ELLEN
KING-OLIVIER | JULIA | WICKLIFFE
KITAGAWA | DENISE | MARIE
KLASEN | LESLIE | ALISHA
KLEMM | MARTIN | OLIVER
KLUSER | ALEXANDER | MICHAEL
KNAPPE | ALEXANDER | MICHAEL
KNECHT | DANIELA | SUSANNE
KNIGHT | MARLYSE | SUZANNE
KNUTH | SVEN | PHIULIP
KOBAYASHI | CORA | MAY
KOH | LISA | YI-WEN
KOHLER | MARYAM | CHRISTINE
KOLEY | DAVID | GABERTHUEL
KOLEY | NICOLE | GABEERTHUEEL
KONTAK | MARTHA | MARY
KOO | WINSTON | WING-HO
KOOK | EDITH | MINSOO
KOPPENOL-BOUNDS | PATRICIA | LYNN
KOSTER | PHENGSAVANH | CINDY
KOSTOLIAS | JIMMY
KRAMER | DAVID | LAWRENCE
KUHLEMEYER | MICHELE | ELAINE
KUMBALEK | MELINDA | MARY
KUNG | WANDA
KVITA | VALERIE
KWAN | LOUISA | LAI WAH HO
KWAN | SYLVIA | WAI-WAH
KWAN BERNASCONI | SUE | SUET PING
KWON | DAE | KYOON
KWON | HYANGMI
KWON | JOORHEE
LA MONTAGNE | CHERYL | EILEEN
LA ROCHE | ROGER | GERARD
LACHANCE | PAGE | ANNE
LAGIER | CYNTHIA | ANN
LAI | STEPHEN | CHI YAN
LAIDLAW | GEORGE | WILLIAM
LAKE-VOUGA | ANNA | LOIS
LAKHANI | SAIRA | AMIN
LAM | AGNES | BUI-YI
LAM | NOEL | CHARLES
LAMONTAGNE | PATRICK | PIERRE
LAMSON | CYNTHIA
LANDAU | ROBERT
LANDI | JOANNA | MARIA
LANINI | PHILIPPE
LAPENSKIE | SHAUN | CHRISTOPER
LAPERAL | GERARDO | OLIVERIO VELASCO
LAPIERRE | JULIEN
LARIA | RUTH | MARIE
LARSEN | MICHAEL | JOSEPH
LASKIN | JANESSA | JOY
LATOUR | JEROEN | PIETER PATRICK
LAU | VIVIAN
LAUDER | WALLACE | GEORGE
LAURENT | DENNIS
LAW | ANNALISE | MARGARET
LEBLEBICI | DENIZ | EBRU
LECLAIR | FRANCOIS | CLAUDE
LEDER | SANDRA | NAOMI
LEE | ANDREA | JIN-TUNG
LEE | CAROLYN
LEE | DEBORA | ANN
LEE | JAINY | SOOK
LEE | JONATHAN | JIAJUN
LEE | PATRICK | MAUNG
LEE | RICHARD | GRANT
LEE | RYAN | WANG HEI
LEE | STEVE | KYUNGJAE
LELOS | KIRA | JULIANNA
LEMENE | LIDIA | AMALIA
LENSTRA | LAURA | SIMONET
LENSTRA | SENTA | AUGUSTA
LEONE | LINDA | CATHRYN
LEONG | CHRISTOPHER | WEI-HAO
LEPORI | LEONARDO | ARMANDO
LERCH | SARAH | ISABELLE
LETOVSKY | HINDA
LEUNG | SANDRA | SHUK BO
LEUNG | VERONICA | GRACE
LEUTWYLER | HEIDI
LI | KEFEI
LI | KRISTINE | KENG YAN
LI | LAN
LIAO | ALBERT | CHENG MAU
LICHTMAN | KATHERINE | ANN
LIGHTSTONE | PHILLIP
LIM | BOON | C.
LIM | DICKSON | TING CHENG
LIMAN | MELISSA | YENNY
LIN | JIANYAO
LIN | MARINA | TING
LIN | SHANG | JYH
LIN | YEN-CHIH | JULIA
LINZ | MARTIN
LI-SZETO | CECILIA | KWOK-WOON
LITTLE | CAROLYN | FRANCES
LITWINOW | KAREN | ALEXANDRA
LIU | CLAIRE | HWI-MENG TAN
LIU | RICHARD | RODNEY
LIU | SHENG
LIVINGSTON | VERISSA
LLEWELLYN-DURHAM | ANDRE | DANTE GIOVANNI
LLOYD-PRICE | HEIDI
LOESCHE | ERNST | ALEXANDER
LOESCHE | EVA
LONG | OLIVER | TIN LOONG
LONG | RICK | LEE
LORAM | SEVERINE
LOU | TAK | PUI
LOVELESS | WILLIAM | BLAKE
LOW | JUN | HAO
LOWE | CHRISTIAN | GARDINER
LOWE | TIRASIRI
LUGINBUEHL | MARK | DAVID
LUNG | FUNG | YEE
MA | RONGJING
MA | TERESA | WEI-HSIN
MACH | NICOLAS | THIERRY
MACHUCA | LINDA | MARICELA
MACKINNON | MARTIN | EDWARD
MAGUIRE | ISABELLE | S.
MAHBUBANI | JHAMAT | PETER
MALEENONT | ANN
MALEENONT | TRACY | ANN
MANASSE | DONALD | MICHAEL
MARGANI | VIOLA
MARQUART | ROBERT | ANDREW
MARRIN | KNUDSEN | DIANE
MARTIG | CHRISTIAN | JOHANN
MARTIN | GIAN | THOMAS
MARTINI | JAN
MASLIN | DOUGLAS | LUKE
MASSE | KUNAL
MATE | THEODORE | EDWARD
MATTLI | PETER | ALBERT
MAUCH-HALDIMANN | STEFAN | ULRICH
MAYER | MARTIN | SEBASTIAN
MAYER | NINA | MARLIES
MC ADAM | MALCOLM
MC GOVERN | RACHEL | AMALIA
MC QUAIL | FRANCES | MAY FUSON
MCCAIN | CLAUDIA | FAYE
MCCARTHY | DAVID | JAMES
MCCLINTOCK | JAMES | JEFFREY DALE
MCDERMONT | SARAH | CHRISTINE
MCDONALD | GEORGE | EARL
MCDOUGALL-OESER | THERESA | BRIDGET
MCEVOY | JAMES | DAVID
MCFARLANE | DUNCAN | ROBERTSON
MCGRATH | ROBERT | IRVING
MCGUINNESS | MRIDULA | JESSIE
MCKNIGHT | KATHY | KAY
MCLEAN | TIMOTHY | IAN
MCLENNAN | SAMUAL | T.
MCMAHON | COLTON | THOMAS
MCMAHON | JOANNE | LYNNE
MCNEILL | TIMOTHY | IAN
MCPHAIL | MICHAEL | ALEXANDER
MEER-AESCHBACH | IBEATRICE | ERIKA
MEIER | ARIANE | INGRID
MEIER | KARIN | ANNA
MEIER-RIOUX | JOELLE | DOMINIQUE
MEILI | ERIC | ANDREW
MEISE | FLORIAN | ULRICH
MEISSER | DANIEL
MEISTER | URS | LUKAS
MELROSE | JANE
MENA | PABLO
MENN | KATHLEEN | LOUISE
MENOUD | SAVANNAH
MERZ BOLT | CHRISTINA | ANN
METHERINGHAM | GILLIAN | DIANE
MEUWLY | ALAIN | LUC
MEYER | CAROL | CLAIRE
MEYER | EVAN | SCOTT ROY
MEYER | URS | HEINRICH HERMANN
MIAO | CHRISTINE | HWA SHAW
MICHEL | THERESR | ANNE
MIDDLETON | THOMAS
MILLER | AVIS | DEE
MILLER | WILLIAM | ROBERT
MILLER-HORN | SHARON | ANN
MILOT | MARIELLE | MARIE-JOSEE
MIN | JIHONG
MINDER | JEANNE | CORNELIA
MITCHELL | CLAUDE | FRANK
MITCHELL | MARY | ANN
MOEDERLE | JOHN | MAXWELL
MOHL | ANTHONY | S.
MONCKTON | PHILIPPA | SUSAN
MOORRISSEY | MICHAEL | DAVID
MORANO | MICHAEL | JAMES
MORELLI | MARIE | LAURE DIANE
MORGAN | ANDREW | CRAIG
MORGAN | CHRISTOPHER | EVAN
MOYAL | NICOLE | VICTORIA
MOYER | ANDREW | ALEXANDER
MUELLER | CYRIL | JOEL NICOLAS
MUELLER | JAN | JESSE
MULLER-WIEDERKEHR | CLAUDIA | BEATRICE
MURPHY | MARY | PATRICIA
MURRAY | LEO | KEVIN
MURRAY | MARY | THERESE
MUSCARELLA | ROY | JOSEPH
MUSHIN | ANDREW | MICHAEL HINTON
MUSHIN | DANIEL | JACOB
MYOGA | AKIHITO
NAEF | PHILIP
NAIRN | NATHALIE | MICHELE
NAKASSATO | SUGAKO
NAM | YON | OK
NANCHEN | ROMANE | LOUISE
NARAYANA | ISABELLE
NEAL | OLIVIER | JOSEPH
NEBEL | EVA | MARION
NEIHEISEL | EDWARD | JUDE
NELSON | MARK | JAN
NELSON | STEPHEN | JOHN
NEOH | CHERYL | CHIA-CHIN
NEUENFELDT | KURT | ALBERT
NEUFELD | JEREMY | RUSSELL
NEUMANN | SAMANTHA | ROSE
NEWMAN | WILLIAM | PATRICK
NG | JEWELYN | JOY NOCOM
NG | JNET | ENG YEE
NG | JONATHAN | MING-EN
NG | XIAN-LIOANG | JONATHAN
NG | YI | NOEL
NICHOLLS | MARY | LOUISE
NIEDERMEYER | THOMAS | ALBERT
NIELSEN | JACK
NIELSEN | SYLVIA | NORMA
NIEM | TIEN | ING CHYOU
NININGER | MICHAEL | ROBERT
NORMAN | CAROLINE | BETH
NORRIE | EMILIE | RENE CARLSON
NUSSBAUM-LAPPING | ALEXANDER | CHANCHAI
OATMAN | NATASHA | YVONNE
O'BERLE | THIERRY | BENJAMIN
O'BRIAN | HUGH | EDWARD
O'DAY | KATHLEEN | EVELIGH
O'GRADY | ERIN | COLLEEN
O'GRADY | KRISTEN | BREANNE
O'GRADY | MARLA | JEAN
OGUEY | DELPHINE | ELISE
ONG | SSONIA | MEI SEE
ONO | NORIE
OOI | CLIR | WEN-YU
OPPENHEIMER | CHLOE | ROSE
OPRAVIL | JACQUELINE | JOEL
ORBEGOSO-KERN | MARIA | CRISTINA
OSBORN | ALLAN | GLADSTONE
OSLIN | CLYDE | WIELAND
OSTERWALDER | LARA | SOPHIA
OSTERWALDER | PATRICK
OSTROM | WALTER | ALLAN
OTSU | SHINJI
OTT | KRISTINN | STEVEN
PALUMBO | DOMENICA
PALUMBO | MICHEL | OSTARIO
PAN | ANNA | SHYARU
PARADIES | NICOLAS | EMMONS
PARES | CONSTANTINO
PARK | JEREMY | JOONSUK
PASCUAL II | BENITO | CARLO TAN
PASI | MANUEL | NARSAI
PATRICK | PHILIP | K.
PATTON | MICHAEL | JAMES
PEART | BENJAMIN | ALEXANDER
PEDLEY | JOSEPH | WILLIAM
PELLOUS | SANDRINE | JARVIS
PENG | NEIL
PERDRISAT | ANNELIESSE
PERRAULT | LOUISE | OLIVE
PERRIN-EMMONS | REBECCA | YVONNE
PERRY | JOHN | SCOTT
PERSICO | ILIO
PERSICO | SHAYN | EMIDIO
PERSSON | BENNY | ADAM
PERSSON | BENNY | ADAM
PETERSEN | CHRISTIANE | FRANCOISE
PETIT-FRERE | KEVIN | PATRICK
PFEIFFER-GAILLARD | CHRISTINE | ALICE
PFLEEGER | JAMES | GORDON
PFUNDNER | MYRNA | GREENE
PICHE | CLAUDE | AIME
PICHETTE | ERIN | MARIE
PILIPPI | IAN
POLONSKY | NICOLE | DONATA
POND | ARLETTE | LILIANA
POON | MAELENE | CUA
PORTER | JOHN | ROBERT
PORTER | NICHOLAS | ANTHONY ROBIN
PORTER | PHILLIP | WAYNE
POWER | STEPHEN | JOSEPH
PRETRE | MONICA | HEIDI
PRETRE | MONICA | HEIDI
PRIMROSE | MARLIN | BLAKE
PRUDHOMME | LAWRENCE | A.
PURSWANEY | RACHEL
RAJKAI | KALMAN | L.
RAJMON | DAVID
RASAMNY | WASSIM | RACHID
RASMUSSEN | BROOKE | NICHOL
REDDEN | MELANIE | AUSTIN
REID | BARBARA | ELLEN
REIHER | SOPHIE | MICHELLE
RETTENBACHER | REGINA
REY | MALLORIE | CYNTHIA
RICHARDSON | ANN
RICHARDSON | ELMINA | ARLENE
RICHARDSON-BRAUN | LYNNDA
RIEDEL | MICHAEL | GEORGE
RIGENDINGER | FRITZ
RIGHETTI | SABINI | CARLA
ROBERT | MICHELLE | ANDREE
ROBINSON | DAVID | THORNTON
ROBINSON | PHALON | CEDRIC
ROE | MATGARET | ALICE
ROEBUCK | M | TALI
ROGENMOSER | ROBERT
ROLSTON | BETH | ANN
ROMANO | JAMES
ROMER | MANUEL | ANDREAS
RONEY | SARA | F.
ROSSEN | STIG
RUDOLF VON ROHR | EVELYN
RUETHI-PAULSON | PEGGY | ILEENE
RUKAVINA DE VIDOVGRAD | FELIPE | MARIA NIKOLAUS
RUNKLE | LOUISE | ELIZABETH
RUPP | DANIEL | WISKIRCHEN
RUSSELL | DENNIS | GEORGE
RUSSELL-DELEAMONT | SUSAN
RUSSO | JAMIE | SARAH
RUTZ-LA PITZ | LOUISE | ALMIRA
RYFF-DE LECHE | SYLVIA | AMIKA
RYNARD | MATHEW | GARTH
SACCONE | STEFANO | MARIA
SACZKOWSKI | KATHRYN | ANN
SADEGHI | NICOLAS | FRANCOIS ROBERT
SADIK | MAHA | MALIK
SAGMANLI | KAAN | ERDAL
SAKHIA | AAMIR
SALEM | ROGER
SAMPSON | JAY | DAVID
SANTIAGO | MARILYN | ELEANOR
SANTOSO | MARIA
SARGEANT | MARGARETHA | ROUKENS
SASAKI | TOSHIYUKI
SASPORTAS | LOUIS | JOSEPH
SATO | NORIO
SAVAGE | GLENDA | A.
SAVAGE | GORDON | WAYNE
SAVOIE | SYLVIO | M.J.
SCANLON | MARY | ANDREA
SCHACHTER | ADRIAN
SCHAEFER | ALEXANDRA | MIRJAM
SCHAEFER | JOHANNA | ROS
SCHAEFERLE | SALLY | DRAKE
SCHAEFERLE | TOM | LYNN
SCHAEFERS | EDWARD | RICHARD
SCHAEFERS | FRANCIS | CHRISTIAN
SCHAEFERS | MARIEL | CATHARINA
SCHAEPPI | JURG | ADRIAN
SCHAEPPI | KATHARINA | URSULA
SCHAEPPI | ROMANO
SCHAER | ADELHEID | LINA
SCHAER | GLORIA | CARMEN
SCHAERER | CHERYL | RAYMOND
SCHANZ | JUDY | ANN
SCHEIDT | JOHANN | WILHELM
SCHELL | SUSAN | BARABARA
SCHILT-BARTH | PATRICIA | DORIS
SCHLATTER | NICOLE
SCHMID | ROSINE
SCHMID-PFEIFFER | BARBARA | MARIANNE
SCHMID-RIEGER | NICOLE | ELISABET
SCHMIDT | ISABELLE
SCHNELLMANN | ELSA
SCHNELLMANN | JASMIN | MARY
SCHNELLMANN | SANDRA | MAXINE
SCHNELLMANN | SHRISTOPH
SCHONHOLZER | WOLFGANG | OTTO
SCHUBEL | GREGORY | BYRON
SCHUEPBACH | HEATHER | JO
SCHUEPP | RAHEL | KATRIN
SCHULTHESS | JOELLE | CHRISTINE
SCHWEIZER | BARBARA | CAROLINE
SEDCOLE | NICHOLAS | PETER
SEHEULT | BRENDA | GERTRUDE
SEOL | IRIS
SEPPI-COTE | BOBBI | ANNE
SERRA | MARIA | LAURA
SHAFIE | THAAHIRAH | BINTE
SHERMAN | EDWAED | DAVID
SHIAU | CHING | YEH
SHORE | GARY | ALAN
SIA | ISABELLE | HUNGWEN
SICARD | MARIE | ANNA FRANCOISE
SIEGENTHALER-MOCKLIN | JULIETTE | JENNIFER
SIELEMANN | DIRK
SIGRIST | FREDDIE | KEONE
SIK | KU | TAY
SILBERMAN | ANDREA | JESSICA
SIMMONDS | SABINA | CAROLINE
SIMPSON | JENNIFER | LYNN
SINGHOLKA | NORASEH | ALEXANDER
SINNET | BRIAN | MICHAEL
SIU | LILIAN | CHI YAN
SKARDA | MICHAEL | ROMAN
SKILLEN | CHARLES | ROBERT
SLAGLE | CHRIS | JAMES
SLATER (NEE: BISTRICER) | HADASSAH | RACHEL
SMALL | AARON | BRADLEY
SMALL | TARA | MICHELLE
SMETANA | CHRISTOPHER
SMIRRA | KARL | HANS R
SMITH | ANNE
SMITH | JAMES | OLIVER HENRY
SMITH | THOMAS | FREDERICK
SMITH | WENDY | LEIGH
SMITHERS | LESLEY | ROSE
SMYTH | TERRI | RUTHLYN
SNOOKS | SANDRA | LYNN
SOBBI | NOOR | M.
SOEDARSONO | CITRA | MUNANDA
SOHN | JOANNA | EUN KYUNG
SOLLBERGER | ANNEMARIE
SONNTAG | STEPHEN
SOUSSANE | JAAFAR
SOUTHEY | JANE | LORAINE
SPENDLOVE | DAVID | SPURR
SPETH | DOMINIQUE | MARIE
SPINATSCH | NORA | ANNINA
SPIROPULOS | JOHN | CHRISTIAN
SPREITZER | CHRISTINA | MONIKA BEATRIX
SPROAT | SHARON | ANNE
ST ARNAUD | DENISE | MARIE FRANCE
STADLER | IRENE | CAROL
STAEHELIN-VIERMANN | MARGARETHA
STAEHLI | DAMARIS | DEBORAH
STAFFORD | CONOR | MAC LEOD
STAGGS | JANE | ELIZABETH
STALLA-BOURDILLON | ALINE | DOMINIQUE
STALLA-BOURDILLON | MARTIN | JEAN ANTOINE
STAUBLI | CHARLES | ANDRE
STEELE | JOHN | RICHARD
STEENERSON | ROBERT
STEFKA | MARCO | ANDREA
STEHRENBERGER | KEVIN | FELIX
STEIN | CLAUDIA | GEORGETTE
STEINEGGER | NICOLE | MICHELINE
STEPHENS | ROGER | LYNN
STEPPER | FRANK | OLIVER
STEVENS | VIVIENNE
STOKES | CHRISTINE | MARGUERITE ANTONIA
STOLZKE | SEBASTIAN | PETER
STONE | JEFFREY | EARL
STOTT | ALISON
STOUFFER | NATALIE | HEIDI
STRASSLE | PATRICIA | LAURA
STRAUSS-HEIZMANN | STEFANIE | JOHANNA
STREHLER | BONNIE | B.
STREHLER | CECILIA | FLORENCE
STREPPARAVA | CORINNE | MARIE
STREPPARAVA | NICOLE | RITA
STRICKER | CLAUDIO | MARC
STUDER | NORA
STUKATOR | ELIZABETH | ANNE
STURGEON | DENNIS | CHRISTIAN
STUTZ | MARIE | ANNE
SU | TSUI | HUA
SUESS | FRANK
SUHM | PATRICK | MANUEL
SULLIVAN | DIANE | MARIE
SULSER-BREHSE | KATHLEEN | URSULA
SUNG | WEN | YANN
SUTER | SUSAN
SWIDERSKI | EDWARD | MICHAEL
SYMON | JOHN | LAWRENCE
SZEKRENYES | DENISE | MARIE
TAN | AARON | KUAN WEI
TAN | ANNE-MARIE | HWI-LING
TAN | DONG
TAN | QUINNE | CHI
TANDRIONO | SETIONO
TANG | SHERMAN | CHUNG TAT
TARR | PHILIP | EDWARD
TARTAKOV | MAZAL | HIZMI
TAY | BENJAMIN | HUIMIN
TAY | JONATHAN | CHEE-WEI
TAY | LESLIE | YAN CHONG
TELL | WILHELM
TEMERTY | MELISSA | ALEXANDRA
TENNEY | RICHARD | PAUL
TENNYSON | SKYLA
TEPPER | JONATHON | I.
TETREAULT | PIERRE | LUC JEAN
THELEN | DAVID | CARL
THEMIG | LINDSEY | NICOLE
THNG | DORRYNE | NATALINE
THOMAS | BARBARA | LYNNE
THOMAS | CHARLOTTE | KELLY
THOMAS | HOWARD
THOMPSON | HEATHER | COLES
THORP-BALLARD | ELIZABETH
THURNHOFER | FRANZ | PETER FERNANDEZ
TILBURY | HELEN | SABINE MARIE
TISUTHIWONGSE | AKKAPHOL
TOVEY | NEIL | SUMMERSON
TRILLEN | HEIDI | MARY
TRIPP | CAROL | JEANNE
TROESCH | VIRGINIA | CLAIBORNE
TROUBETZKOY | ALEXIS | SERGE
TRUJILLO | ANTHONY | BLISS
TSAND | WINSTON | CHUEN-ON
TSANG | MARTIN | YIU TING
TSANG | PRISCILLA | KWAN-YU
TSAO | CHRISTINE | CHAO
TSUCHIDA | KOHEI
TSUKAMOTO | KOICHI
TSUKAMOTO | YOKO
TURNER | SANDRA | MARGUERITA
TYNES | MARTINA | ANNA
TZANOS | MARIA | BRITTA
UEHLINGER-GEHRIGER | MONICA
ULIN | ELIZABETH | CARVER
ULRICH | WALTER | J.
URENDA | IVAN | ELIAS
URSPRUNG-IEZZI | ARIANE | LAURA
USTRAYKH | ALEXANDER
VAN HEES | DIRK | WILLIAM
VAN MAELE | LOUIS-PHILIPPE | JEAN
VAN WAGNER | INGRID | FROMEN
VANDER VOST | CECILE | MARIE
VARLEY | BRIAN | STANLEY
VELLA | SABINA
VETTERLI-SCHMID | CYNTHIA | CHRISTINE
VICTORIO | LEO | GOSECO
VICTORIO | MARIA | REMEDIOS CAMPO
VIGIE | STEPHEN | OLIVIER
VILLESVIK | MARY | MARGARET
VISCHER | REBECCA | HELENA
VOELLMY-LUDWIG | ANNELIS | YVONNE
VOINOV-KIHLER | JULIETTE | NATHACHA
VON DEICHMANN | DIETER | ALEXANDER
VONECHE | ANNE | CHRISTINE
WACKER | MARTINA | PATRICIA
WAESPE | JAN
WAHL | AUDREY | CLAUDE
WAI | JOSEPH | YIM
WAKEFIELD | ERIN | JULIA
WAKELIN | MARK
WAN | DEBORAH
WANG | CHUNRONG
WANG | JACK | CHICHENG
WANG | JOHN
WANG | JUSTIN | OSCAR
WANG | MATTHEW | TSENG-JA
WANG | PATRICK | TAK YUNG
WANNER | VERENA | FRANZISKA
WANTSCHEK | LLOYD | CLIFFORD
WARD | MATTHEW | PETER
WARNER | JESSICA | LYN
WARNER | LESLIE | JEAN
WASER | ANNA | OLIVIA
WATERS | MARY | SIOBHAN
WATKINS | LINDA | KAREN
WEBER | CHRISTOPHER | ROBERT
WEBER | RAINER | ANDREAS
WEHBE | MELHAM | RYAN
WEHNER | VICKY | LORRAIN
WEHRELL | SUSAN | KAY
WEIL | KATHLEEN
WEINGART | ALAN | DAVID
WEINGART | ARLENE
WEISS | MONICA
WELD, JR | HOWARD | GEORGE
WELLESLEY | MARIANNE | MCDONALD
WELLS | EDWARD | BRUCE
WELLS | JAMES | EDWARD
WELSH-CONTESSOTTO | ERICA | LYNN
WENGER | MONICA | RUTH
WENTLAND | HELEN | E.
WERNER | MARY | MEI-LIN
WERNER-MEISSER | ANDREA
WERNLI-BAUR | SANDRA | MAGDALENA
WESTON | SHANE | JOHNSON
WHEELER | MARY | ELIZABETH
WHITBECK | CHRISTOPHER | W.
WHITBECK | CHRISTOPHER | WARD
WHITE | ALLISON | STACEY
WICHMANN | NICOLE | CHRISTIANE
WILBER | HUI SUK | KIM
WILDEMANN | JACK | MOORE
WILKINS | WILLIAM | THOMAS
WILLIAMS | MARILYN | ROSE
WILSON | EDYTH | VALERIE
WIRZ | DADI
WISKEMANN | CAROLYN | ELISABETH
WITZINGER | MARCUS | ROBERT
WOLF | ANGELIKA | U.B.
WOLF | JONATHON | THOMAS
WONG | CHIN | YEE
WONG | EUGENE | QING YAO
WONG | MICHAEL | CHI ON
WONG | TING TING
WOOD | LORRAINE | BERKELEY
WOODRUM | THOMAS | G.
WORDSWORTH | DIANA | LUANN
WORTH | TRACEE | LEE
WRIGHT | GORDON
WU | GAN-HONG
WU | TSUI | LIN
WU | YING
XU | XUEFENG
YEO | KEVIN | ENG LYE
YEUNG | BEN | SIU
YI | CHUN | I.
YIM | KEVIN | HOWON
YOO | EUNICE | HYONG
YOO | KYUNG | WON
YOON | BERNARD | JUN HYUNG
YOSHINO | MICHAEL | STEPHEN
YOU | HELEN | HUI YU
YOUNG | ALEXANDRA | MARY
YOUNG | DARYL | ANN
YOUNG | KATHERINE | BELINDA
YUDELMAN | JOHN | STANLEY
YUN | YANG | JI
ZACOUR | MARY | ELEANOR
ZAWADSKI | DARIUSZ | ANDRZEJ
ZEIDY | HELMY | ABDEL SALAM
ZROBACK | JESSE | PETER
ZWAHLEN | FLORIAN | LUKAS
ZWEIG | YOEL | ELISHA
ZWICKY | ALEXANDRA | CATHERINE

Dated: April 22, 2016.
Maureen Manieri,
Manager Classification Team 82413, Examinations Operations—Philadelphia Compliance Services.

[FR Doc. 2016-10578 Filed 5-4-16; 8:45 am]

BILLING CODE 4830-01-P